DEPARTMENT OF HOMELAND SECURITY

Coast Guard

33 CFR Part 165

[Docket No. USCG-2012-1036]

Safety Zones, Recurring Marine Events in Captain of the Port Long Island Sound Zone

AGENCY: Coast Guard, DHS.

ACTION: Notice of enforcement of regulation.

SUMMARY: The Coast Guard will enforce five safety zones for fireworks displays in the Sector Long Island Sound area of responsibility on the date and time listed in the table below. This action is necessary to provide for the safety of life on navigable waterways during the events. During the enforcement periods, no person or vessel may enter the safety zones without permission of the Captain of the Port (COTP) Sector Long Island Sound or designated representative.

DATES: The regulations in 33 CFR 165.151 Table 1 will be enforced during the following dates and times listed in the table in SUPPLEMENTARY INFORMATION.

FOR FURTHER INFORMATION CONTACT: If you have questions on this notice, call or email Petty Officer Katherine Linnick, Waterways Management Division, U.S. Coast Guard Sector Long Island Sound; telephone 203-468-4565, email Katherine.E.Linnick@uscg.mil.

SUPPLEMENTARY INFORMATION: The Coast Guard will enforce the safety zones listed in 33 CFR 165.151 Table 1 on the specified dates and times as indicated.

Under the provisions of 33 CFR 165.151, the fireworks displays listed below are established as safety zones. During the enforcement period, persons and vessels are prohibited from entering into, transiting through, mooring, or anchoring within these safety zones unless they receive permission from the COTP or designated representative.

This notice is issued under authority of 33 CFR 165 and 5 U.S.C. 552(a). In addition to this notice in the Federal Register, the Coast Guard will provide the maritime community with advance notification of this enforcement period via the Local Notice to Mariners or marine information broadcasts. If the COTP determines that these safety zones need not be enforced for the full duration stated in this notice, a Broadcast Notice to Mariners may be used to grant general permission to enter the regulated area.

7.1 Point O'Woods Fire Company Summer Fireworks | • Date: July 3, 2017.
| • Rain Date: July 5, 2017.
| • Time: 08:45 p.m. to 10:30 p.m.
| • Location: Waters of the Great South Bay, Point O'Woods, NY in approximate position 40°39′18.57″ N., 073°08′5.73″ W. (NAD 83).
7.6 Sag Harbor Fireworks | • Date: July 1, 2017.
| • Rain Date: July 2, 2017.
| • Time: 8:30 p.m. to 10:45 p.m.
| • Location: Waters of Sag Harbor Bay off Havens Beach, Sag Harbor, NY in approximate position 41°00′26″ N., 072°17′9″ W. (NAD 83).
7.29 Mashantucket Pequot Fireworks | • Date: July 8, 2017.
| • Rain Date: July 9, 2017.
| • Time: 8:45 p.m. to 10:45 p.m.
| • Location: Waters of the Thames River, New London, CT in approximate positions Barge 1, 41°21′03.03″ N., 072°5′24.5″ W. Barge 2, 41°20′51.75″ N., 072°5′18.90″ W. (NAD 83).
7.33 Groton Long Point Yacht Club Fireworks | • Date: July 15, 2017.
| • Rain Date: July 17, 2017.
| • Time: 9:00 p.m. to 10:30 p.m.
| • Location: Waters of Long Island Sound, Groton, CT in approximate position 41°18′05″ N., 072°02′08″ W. (NAD 83).
7.40 Rowayton Fireworks | • Date: July 4, 2017.
| • Rain Date: July 5, 2017.
| • Time: 9:00 p.m. to 11:00 p.m.
| • Location: Waters of Long Island Sound south of Bayley Beach Park, Rowayton, CT in approximate position 41°03′11″ N., 073°26′41″ W. (NAD 83).

Dated: June 5, 2017.
A.E. Tucci,
Captain, U.S. Coast Guard, Captain of the Port Sector Long Island Sound.

[FR Doc. 2017-12743 Filed 6-16-17; 8:45 am]

BILLING CODE 9110-04-P